DEPARTMENT OF HOUSING AND URBAN DEVELOPMENT

[Docket No. FR-7001-N-18]

30-Day Notice of Proposed Information Collection: Evaluation of the HUD Youth Homelessness Demonstration Project Evaluation

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: May 29, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on September 1, 2017 at 82 FR 41635.

A. Overview of Information Collection

Title of Information Collection: Evaluation of the HUD Youth Homelessness Demonstration Project Evaluation.

OMB Approval Number: 2528—New.

Type of Request: New collection.

Form Number: N/A.

Description of the need for the information and proposed use: The purpose of the Youth Homelessness Demonstration Project Evaluation (YHDE), by the Office of Policy Development and Research, at the U.S. Department of Housing and Urban Development (HUD), is to assess the progress and results of the 2017 YHDP grantee communities in developing and executing a coordinated community approach to preventing and ending youth homelessness. YHDP grant funds help communities to work with youth advisory boards, child welfare agencies, and other community partners to create comprehensive community plans to end youth homelessness; these comprehensive plans are a major focus for the grantees in the first grant year. The grant funding is used for a variety of housing options, including rapid re-housing, permanent supportive housing, and transitional housing, as well as innovative programs. YHDP also will support youth-focused performance measurement and coordinated entry systems. In order to obtain a clear picture of YHDP grant activities, this longitudinal, multi-level evaluation will measure activities and progress of grantees essential to building and sustaining effective community change.

Data collection will occur during two evaluation components with each component including data collection activities and analyses. These components include two waves of a web-based survey of Continuums of Care, and site visits with each demonstration community and the three selected comparison sites.

Component one, a web-based survey of Continuums of Care (CoCs) in the U.S. will be administered twice, in Years 1 and 4 of the evaluation, to all CoC program directors across the country excluding the 10 YHDP grantees and three comparison communities, for a total of 400 survey participants each wave. These data will provide an understanding of system developments occurring across the country and provide a comparative basis for understanding the demonstration communities. The survey will ask questions about the nature and capacity of the prevention and crisis approaches in place, the housing and service solutions, and the strategies for screening and assessing youth. It will focus on understanding the coordination and collaboration between the homeless assistance system and mainstream service systems, as well as whether and how the system prioritizes and coordinates referrals to the different programs.

The second data collection component is comprised of site visits which will be conducted with each demonstration community and the three comparison non-grantee CoCs. The site visits will include interviews with key informants, with project technical assistance (TA) providers, and youth, as well as focus groups with different subgroups of youth. The site visit guide will describe data collection procedures to be followed to ensure rigor and consistency across site visit teams. The first site visit will be conducted as soon as OMB approval is received to collect information while grantees are developing their coordinated community plans. The second site visit will be conducted in early 2019 to explore how the plans are being implemented, as well as barriers to or facilitators of change. The third and final site visits will be scheduled after community plans have been in effect for at least one year (mid-2020).

Respondents: Continuum of Care Lead Agency contacts, key community partners, TA provider staff and youth with interaction with CoCs.

Estimated total number of hours needed to prepare the information collection including number of respondents, frequency of response, hours of response, and cost of response time:

Exhibit 2—Estimated Hour and Cost Burden of Information Collection
Information collection | Number of respondents | Frequency of response (per annum) | Responses per annum | Burden hour per response | Annual burden hours | Hourly cost per response | Annual cost
Continuum of Care (CoC) Web Survey (CoC Program Directors) | 400.00 | 0.50 | 200.00 | 0.50 | 100.00 | $31.10 | $3,110.00
Lead Agencies Interview | 26.00 | 0.75 | 19.50 | 2.00 | 39.00 | 20.73 | 808.47
Service Provider Interview | 78.00 | 0.75 | 58.50 | 1.00 | 58.50 | 20.73 | 1,212.71
Local Government Agency Staff Interview | 26.00 | 0.75 | 19.50 | 0.80 | 15.60 | 23.39 | 364.88
TA Providers Interview | 10.00 | 0.75 | 7.50 | 1.00 | 7.50 | 20.73 | 155.48
Youth Board Member Interviews | 26.00 | 0.75 | 19.50 | 1.00 | 19.50 | 7.25 | 141.38
Youth Focus Groups | 468.00 | 0.75 | 351.00 | 1.50 | 526.50 | 7.25 | 3,817.13
Total | 1,034.00 |  | 675.50 |  | 766.60 |  | 9,610.05

Exhibit 3—Estimated Hour Burden of Information Collection Calculation Basis
Information collection | Number of respondents | Frequency of response | Responses per annum
CoC Program Directors | 400 | 2 | (400 × 2)/4 = 200
Lead Agencies | 2/site, 13 sites = 26 | 3 | (26 × 3)/4 = 20
Service Providers | 6/site, 13 sites = 78 | 3 | (78 × 3)/4 = 59
Local Government Agencies | 2/site, 13 sites = 26 | 3 | (26 × 3)/4 = 20
TA Providers Interview | 10 | 3 | (10 × 3)/4 = 8
Youth Board Members (Interviews) | 2/site, 13 sites = 26 | 3 | (26 × 3)/4 = 20
Youth Focus Groups | 36/site, 13 sites = 468 | 3 | (468 × 3)/4 = 351
Total | 1,034.00 |  | 678.00

As summarized below, we estimated the hourly cost per response using the May 2016 Bureau of Labor Statistics, Occupational Employment Statistics median hourly wages for the labor categories, Social and Community Services Manager (11-9151, $31.10) and Social and Community Services Specialist, All Other (21-1099, $20.73). We used the Social and Community Services Manager rate for the CoC Program Directors and Program Administrators.

We used the Social and Community Services Specialist, All Other rate for YHDP grantee staff, service providers, and TA providers. For the government workers, we used an average of state and local Social and Community Services Specialist, All Other (21-2099, $23.39). The youth hourly wage is based on the federal minimum wage of $7.25/hour.

Respondent | Occupation | SOC code | Median hourly wage
CoC Program Directors | Social and Community Services Manager | 11-9151 | $31.10.
Lead Agencies | Social and Community Services Specialist, All Others | 21-1099 | $20.73.
Service Providers | Social and Community Services Specialist, All Others | 21-1099 | $20.73.
Local Government Agencies | Social and Community Services Specialist, All Others | 21-1099 | Average of state and local, $23.39.
TA Providers | Social and Community Services Specialist, All Others | 21-1099 | $20.73.
Youth | Federal minimum wage |  | $7.25.
Source: Bureau of Labor Statistics, Occupational Employment Statistics (May 2016), https://www.bls.gov/oes/current/oessrci.htm.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 19, 2018.
Anna P. Guido,
Department Reports Management Officer, Office of the Chief Information Officer.

[FR Doc. 2018-08779 Filed 4-25-18; 8:45 am]

BILLING CODE 4210-67-P